DEPARTMENT OF COMMERCE

Bureau of the Census

Census Advisory Committee of Professional Associations

AGENCY: Bureau of the Census, Department of Commerce.

ACTION: Notice of Renewal.

SUMMARY: The U.S. Bureau of the Census (Census Bureau) is giving notice that the charter for the Census Advisory Committee of Professional Associations has been renewed.

FOR FURTHER INFORMATION CONTACT: Committee Liaison Officer Jeri Green, Chief, Census Advisory Committee Office, U.S. Census Bureau, Room 3627, Federal Building 3, Washington, DC 20233. Her telephone number is 301-763-2075, TDD 301-457-2540.

SUPPLEMENTARY INFORMATION: In accordance with the provisions of the Federal Advisory Committee Act, Title 5, United States Code, Appendix 2, and the General Services Administration (GSA) rule on Federal Advisory Committee Management, Title 41, Code of Federal Regulations, Part 101-6, and after consultation with GSA, the Secretary of Commerce has determined that the renewal of the Census Advisory Committee of Professional Associations is in the public interest in connection with the performance of duties imposed by law on the Department of Commerce.

The Committee was established in January 1973 to obtain expertise relating to major programs, such as the decennial census of population and housing, the agriculture and economic censuses, current demographic and economic statistics programs, survey research, and marketing analysis. Meeting the standards set forth in Executive Order 12838, in that its charter is of compelling national interest and that other methods of obtaining public participation have been considered, the Committee was rechartered in March 2002 and again in February 2004.

The Committee will consist of a Chair and 35 other members with a substantial interest in the conduct and outcome of the Census Bureau's economic, demographic, decennial census, statistical research, and marketing programs. The Committee includes representatives from academia, private enterprise, professional associations, and nonprofit organizations, which are further diversified by business type, geographic area, and other variables.

The Committee will function solely as an advisory body and in compliance with provisions of the Federal Advisory Committee Act. Copies of the revised charter will be filed with the appropriate Committees of the Congress and with the Library of Congress.

Dated: March 1, 2006.
Charles Louis Kincannon,
Director, Bureau of the Census.

[FR Doc. E6-3158 Filed 3-6-06; 8:45 am]

BILLING CODE 3510-07-P